DEPARTMENT OF THE INTERIOR

Bureau of Indian Affairs

Proposed Information Collection Under the Paperwork Reduction Act; Comment Request

AGENCY: Bureau of Indian Affairs, Interior.

ACTION: Notice.

SUMMARY: In compliance with the Paperwork Reduction Act of 1995, the Bureau of Indian Affairs (BIA) invites comments on an information collection request which will be renewed. The collection is: Gaming on Trust Lands Acquired after October 17, 1988, OMB Control Number 1076-0158.

DATES: Submit your comments and suggestions on or before December 26, 2006 to be assured of consideration.

ADDRESSES: Comments should be sent to: George Skibine, Bureau of Indian Affairs, Office of Indian Gaming Management, Mail Stop 3657-MIB, 1849 C Street, NW., Washington, DC 20240.

FOR FURTHER INFORMATION CONTACT: Interested persons may get copies of the information collection requests without charge by contacting George Skibine at 202-219-4066 or facsimile number 202-273-3153.

SUPPLEMENTARY INFORMATION: The Paperwork Reduction Act of 1995 provides an opportunity for interested parties to comment on proposed information collection requests. The Bureau of Indian Affairs, Office of Indian Gaming Management, is proceeding with this public comment period as the first step in getting a normal information collection clearance from the Office of Management and Budget (OMB).

Please note that we will not sponsor nor conduct, and you need not respond to, a request for information unless we display the OMB control number and the expiration date.

Gaming on Trust Lands Acquired After October 17, 1988

Type of review: Renewal.

OMB Control Number: 1076-0158.

Title: Gaming on Trust Lands Acquired after October 17, 1988, 25 CFR 292.

Summary: The collection of information will ensure that the provisions of IGRA, the relevant provisions of State laws, Federal law and the trust obligations of the United States are met when federally recognized tribes seek a secretarial determination that a gaming establishment would be in the best interest of the tribe and would not be detrimental to the surrounding community. Section 292.8 specifies the information collection requirement. An Indian tribe must ask the Secretary to make a determination that a gaming establishment would be in the best interest of the tribe and would not be detrimental to the surrounding community. The information to be collected includes: name of the tribe, tribal documents, description of the land to be acquired, proof of ownership, distance of land from the Indian tribe's reservation or trust lands and other documents deemed necessary. Collection of this information is currently authorized under an approval by OMB (OMB Control Number 1076-0158). All information is collected when the tribe submits a request for a secretarial determination that a gaming establishment would be in the best interest of the tribe and would not be detrimental to the surrounding community. Annual reporting and record keeping burden for this collection of information is estimated to average 1,000 hours each for approximately 2 respondents, including the time for reviewing instructions, researching existing data sources, gathering and maintaining the data needed, and completing and reviewing the collection of information, thus, the total annual reporting and record keeping burden for this collection is estimated to be 2,000 hours.

Frequency of Collection: Annually.

Description of Respondents: Federally recognized tribes.

Total Respondents: 2.

Response Hours per Application: 1,000.

Total Annual Burden Hours: 2,000 hours.

Request for Comments

The Bureau of Indian Affairs solicits comments in order to:

(1) Evaluate whether the proposed collection of information is necessary for the proper performance of the functions of the bureau, including whether the information will have practical utility;

(2) Evaluate the bureau's estimate of the burden of the proposed collection of information, including the validity of the methodology and assumptions used;

(3) Enhance the quality, utility and clarity of the information to be collected; and

(4) Minimize the burden of the collection of the information on those who are to respond.

Any public comments received will be addressed in the Bureau of Indian Affairs' submission of the information collection request to the Office of Management and Budget.

All comments will be available for public review during regular business hours. There may be an instance when we decide to withhold information, but if you wish us to withhold your name and address, you must state this prominently at the beginning of your comment. We will honor your request to the extent allowed by law. We will not consider anonymous comments, and we will make public all comments from businesses and from individuals who represent businesses.

Dated: October 16, 2006.
Michael D. Olsen,
Principal Deputy Assistant Secretary—Indian Affairs.

[FR Doc. E6-17813 Filed 10-24-06; 8:45 am]

BILLING CODE 4310-4N-P